DEPARTMENT OF HOMELAND SECURITY

Coast Guard

33 CFR Part 117

[CGD08-05-028]

RIN 1625-AA09

Drawbridge Operation Regulations; Cumberland River, Nashville, TN

AGENCY: Coast Guard, DHS.

ACTION: Notice of temporary deviation from regulations.

SUMMARY: The Commander, Eighth Coast Guard District has issued a temporary deviation from the regulation governing the operation of the Louisville and Nashville Railroad Drawbridge, mile 190.4, Nashville, Tennessee across the Cumberland River. This deviation allows the bridge to remain in the closed- to- navigation position for three consecutive days from 7 a.m. June 11, 2005 until 7 a.m. June 14, 2005. The deviation is necessary to allow time for making repairs of critical mechanical components essential to the continued safe operation of the drawbridge.

DATES: This temporary deviation is effective from 7 a.m., June 11, 2005 until 7 a.m., June 14, 2005.

ADDRESSES: Materials referred to in this document are available for inspection or copying at Room 2.107F in the Robert A. Young Federal Building, 1222 Spruce Street, St. Louis, MO 63103-2832, between 8 a.m. and 4 p.m., Monday through Friday, except Federal holidays. The Bridge Administration Branch maintains the public docket for this temporary deviation.

FOR FURTHER INFORMATION CONTACT: Roger K. Wiebusch, Bridge Administrator, (314) 539-3900, extension 2378.

SUPPLEMENTARY INFORMATION: CSX Transportation Inc. requested a temporary deviation to allow time to conduct critical repairs to the Louisville and Nashville Railroad Drawbridge, mile 190.4 at Nashville, Tennessee across the Cumberland River. The Louisville and Nashville Railroad Drawbridge currently operates in accordance with 33 CFR 117.5 which requires the drawbridge to open promptly and fully for passage of vessels when a request to open is given in accordance with 33 CFR Part 117, Subpart A. In order to facilitate required bridge maintenance the bridge must be kept in the closed-to-navigation position. When the river is at normal pool elevation commercial traffic can transit the bridge without opening the drawspan; therefore, performing the needed repair when the river is at normal pool will have minimal impact on navigation. This deviation allows the bridge to remain closed-to-navigation for 3 days from 7 a.m., June 11, 2005 until 7 a.m., June 14, 2005. There are no alternate routes for vessels transiting this section of the Cumberland River.

The Louisville and Nashville Railroad Drawbridge, in the closed position, provides a vertical clearance of 47.0 feet above normal pool. Navigation on the waterway consists primarily of commercial tows and recreational watercraft. This deviation has been coordinated with waterway users. No objections were received.

In accordance with 33 CFR 117.35(c), this work will be performed with all due speed in order to return the bridge to normal operation as soon as possible. This deviation from the operating regulations is authorized under 33 CFR 117.35.

Dated: May 9, 2005.
Roger K. Wiebusch,
Bridge Administrator.

[FR Doc. 05-9700 Filed 5-13-05; 8:45 am]

BILLING CODE 4910-15-P